SECURITIES AND EXCHANGE COMMISSION

[File No. 1-368]

Issuer Delisting; Notice of Application To Withdraw From Listing and Registration on the Chicago Stock Exchange, Inc. (Chevron Texaco Corporation, Common Stock, $0.75 par Value)

November 7, 2001.

Chevron Texaco Corporation, a Delaware corporation (“Issuer”), has filed an application with the Securities and Exchange Commission (“Commission”), pursuant to Section 12(d) of the Securities Exchange Act of 1934 (“Act”) ¹ and Rule 12d2-2(d) thereunder,² to withdraw its Common Stock, $0.75 par value (“Security”), from listing and registration on the Chicago Stock Exchange, Inc. (“CHX” or “Exchange”).

¹ 15 U.S.C. 78l(d).

² 17 CFR 240.12d2-2(d)

The Issuer states in its application that it has met the requirements of the Exchange by complying with Exchange's rules governing an issuer's voluntary withdrawal of a security from listing and registration. The Issuer states that, in making the decision to withdraw the Securities from listing on the Exchange, a study conducted by management concluded that there was no longer a perceived benefit from the continued listing of the Security on the Exchange. The Issuer will continue to list its Security on the New York Stock Exchange, Inc. (“NYSE”) and the Pacific Exchange, Inc. (“PCX”). The Issuer's application relates solely to the withdrawal of the Securities from the CHX and shall have no affect upon its listing on the NYSE and PCX or its registration under Section 12(b) of the Act.³

³ 15 U.S.C. 78l(b).

Any interested person may, on or before November 30, 2001 submit by letter to the Secretary of the Securities and Exchange Commission, 450 Fifth Street, NW., Washington, DC 20549-0609, facts bearing upon whether the application has been made in accordance with the rules of the CHX and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 01-28429 Filed 11-13-01; 8:45 am]

BILLING CODE 8010-01-M